DEPARTMENT OF LABOR

Office of the Secretary

Dominican Republic—Central America—United States Free Trade Agreement; Notice of Extension of the Period of Review for Submission #2011-03 (Dominican Republic)

AGENCY: Bureau of International Labor Affairs, U.S. Department of Labor.

ACTION: Notice.

The Office of Trade and Labor Affairs (OTLA) in the Bureau of International Labor Affairs (ILAB) of the U.S. Department of Labor has determined that an extension of time is required for its review of Submission #2011-03 concerning the Dominican Republic (the Submission) filed under Chapter Sixteen (the Labor Chapter) of the Dominican Republic—Central America—United States Free Trade Agreement (CAFTA-DR).

On December 22, 2011, OTLA received the Submission from Father Christopher Hartley. It alleges action or inaction by the Government of the Dominican Republic that, if substantiated, could be inconsistent with the Dominican Republic's commitments under the Labor Chapter.

OTLA accepted the Submission for review on February 22, 2012 (77 FR 15397 (2012)), in accordance with its published Procedural Guidelines (71 FR 76694 (2006)). Acceptance triggers a 180-day fact-finding and review period that results in the issuance of a public report of any findings and recommendations. The objective of fact-finding and review is to gather information so that OTLA can better understand the case and publicly report on the U.S. Government's views regarding whether the Government of the Dominican Republic's action or inaction was consistent with the obligations set forth in the Labor Chapter. The public report will include a summary of the review process, as well as any findings and recommendations.

As part of its ongoing review, OTLA sent a delegation to the Dominican Republic from April 22-30, 2012, to gather information on issues raised by the Submission. The OTLA delegation met with representatives from the Government of the Dominican Republic, employers, workers, and other groups with information relevant to the Submission. ILAB conducted a follow-up visit to the Dominican Republic from July 22-25, 2012, during which its delegation met again with the above representatives and with additional stakeholders in order to collect additional information.

According to the Procedural Guidelines, if OTLA determines circumstances require an extension of time, it can delay the report's publication (Procedural Guidelines, Sec. H.7). OTLA has determined that the circumstances require an extension of time, pursuant to section H.7 of the Procedural Guidelines. The extension of time is necessary to permit adequate consideration of the following information that OTLA recently received:

• Public comments in response to the Federal Register Notice (77 FR 36578 (2012)) that OTLA issued on June 19, 2012, soliciting information relevant to the Submission by July 2, 2012; and

• Information the ILAB delegation collected during its July 22-25, 2012 visit to the Dominican Republic.

OTLA will continue to give this matter the highest priority in order to complete the review as expeditiously as possible.

DATES: Effective Date: August 20, 2012.

FOR FURTHER INFORMATION CONTACT: Gregory Schoepfle, Director, OTLA, U.S. Department of Labor, 200 Constitution Avenue NW., Room S-5303, Washington, DC 20210. Telephone: (202) 693-4900 (this is not a toll-free number).

Signed at Washington, DC on August 20, 2012.
Carol Pier,
Acting Deputy Undersecretary, International Affairs.

[FR Doc. 2012-21044 Filed 8-24-12; 8:45 am]

BILLING CODE 4510-28-P